NATIONAL CREDIT UNION ADMINISTRATION

Sunshine Act: Notice of Agency Meeting

TIME AND DATE:

10:00 a.m., Thursday, February 20, 2020.

Recess: 11:30 a.m.

11:45 a.m., Thursday, February 20, 2020

PLACE: Board Room, 7th Floor, Room 7047, 1775 Duke Street (All visitors must use Diagonal Road Entrance), Alexandria, VA 22314-3428.

STATUS: Parts of this meeting will be open to the public. The rest of the meeting will be closed to the public.

MATTERS TO BE CONSIDERED:

PORTIONS OPEN TO THE PUBLIC:

1. Board Briefing, Share Insurance Fund Quarterly Report.

2. NCUA Rules and Regulations, Corporate Credit Unions.

3. Interagency Policy Statement, Allowances for Credit Losses.

4. Board Briefing, Credit Union Mortgage Rates.

PORTIONS CLOSED TO THE PUBLIC:

1. Supervisory Action. Closed pursuant to Exemptions (8), (9)(i)(B), and (9)(ii).

2. Board Appeal. Closed pursuant to Exemptions (6), and (8).

3. Board Appeal. Closed pursuant to Exemption (8).

CONTACT PERSON FOR MORE INFORMATION: Gerard Poliquin, Secretary of the Board, Telephone: 703-518-6304.

Gerard Poliquin,
Secretary of the Board.

[FR Doc. 2020-03219 Filed 2-14-20; 4:15 pm]

BILLING CODE 7535-01-P